DEPARTMENT OF COMMERCE

Foreign-Trade Zones Board

[S-39-2022]

Foreign-Trade Zone 189—Kent/Ottawa/Muskegon Counties, Michigan Application for Subzone, GHSP Inc., Grand Haven, Hart and Holland, Michigan

An application has been submitted to the Foreign-Trade Zones (FTZ) Board by the KOM Foreign Trade Zone Authority, grantee of FTZ 189, requesting subzone status for the facilities of GHSP Inc., located in Grand Haven, Hart and Holland, Michigan. The application was submitted pursuant to the provisions of the Foreign-Trade Zones Act, as amended (19 U.S.C. 81a-81u), and the regulations of the FTZ Board (15 CFR part 400). It was formally docketed on March 25, 2022.

The proposed subzone would consist of the following sites: Site 1 (4.27 acres) 1250 South Beechtree Street, Grand Haven; Site 2 (2.16 acres) 1500 Industrial Park Drive, Hart; Site 3 (0.8 acres) 1550 Industrial Park Drive, Hart; and, Site 4 (3.52 acres) 701 S Waverly Road, Suite 100, Holland. No authorization for production activity has been requested at this time. The proposed subzone would be subject to the existing activation limit of FTZ 189.

In accordance with the FTZ Board's regulations, Elizabeth Whiteman of the FTZ Staff is designated examiner to review the application and make recommendations to the Executive Secretary.

Public comment is invited from interested parties. Submissions shall be addressed to the FTZ Board's Executive Secretary and sent to: ftz@trade.gov. The closing period for their receipt is May 10, 2022. Rebuttal comments in response to material submitted during the foregoing period may be submitted during the subsequent 15-day period to May 25, 2022.

A copy of the application will be available for public inspection in the “Online FTZ Information Section” section of the FTZ Board's website, which is accessible via www.trade.gov/ftz.

For Further Information Contact: Elizabeth Whiteman at Elizabeth.Whiteman@trade.gov.

Dated: March 28, 2022.
Andrew McGilvray,
Executive Secretary.

[FR Doc. 2022-06800 Filed 3-30-22; 8:45 am]

BILLING CODE 3510-DS-P